NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 26, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant: Terrie M. Williams, COH-Long Lab, University of California, Santa Cruz, 100 Shaffer Road, Santa Cruz, CA 95060. Permit Application No. 2009-005.

Activity for Which Permit is Requested: Take and Import into the USA. The applicant plans to capture up to 50 non-pregnant adult Weddell Seals each season over the course of 2 years. The seals will be weighed, measured, sedated to attach instruments and collect blood and tissue samples, then released. The samples and measurements will be used to determine how hunting behavior, prey preference and foraging of Weddell seals changes during periods of decreasing and increasing photoperiod (autumn and spring) and the extended period of winter darkness (mid-May to early August).

Location: McMurdo Sound.

Dates: August 1, 2008 to December 30, 2011.

Nadene G. Kennedy,
Permit Officer, Office of Polar Programs.

[FR Doc. E8-11817 Filed 5-23-08; 8:45 am]

BILLING CODE 7555-01-P